DEPARTMENT OF HEALTH AND HUMAN SERVICES

National Institutes of Health

Collection; Comment Request: Revision of the National Diabetes Education Program Comprehensive Evaluation Plan

SUMMARY: In compliance with the requirement of Section 3506(c) (2)(A) of the Paperwork Reduction Act of 1995, for opportunity for public comment on proposed data collection projects, the National Institute of Diabetes and Digestive and Kidney Diseases (NIDDK), the National Institutes of Health (NIH) will publish periodic summaries of proposed projects to be submitted to the Office of Management and Budget (OMB) for review and approval. This is a request for a revision to an existing approved information collection request.

Proposed Collection: Title: The National Diabetes Education Program (NDEP) Comprehensive Evaluation Plan. Type of Information Collection Request: Revision of a currently approved collection (#0925-0552). Need and Use of Information Collection: The National Diabetes Education Program is a partnership of the National Institutes of Health (NIH) and the Centers for Disease Control and Prevention (CDC) and more than 200 public and private organizations. The longterm goal of the NDEP is to reduce the burden of diabetes and pre-diabetes in the United States, and its territories, by facilitating the adoption of proven strategies to prevent or delay the onset of diabetes and its complications. The NDEP objectives are to: (1) Increase awareness and knowledge of the seriousness of diabetes, its risk factors, and effective strategies for preventing type 2 diabetes and complications associated with diabetes; (2) increase the number of people who live well with diabetes and effectively manage their disease to prevent or delay complications and improve quality of life; (3) decrease the number of Americans with undiagnosed diabetes; (4) Among people at risk for type 2 diabetes, increase the number who make and sustain effective lifestyle changes to prevent diabetes; (5) facilitate efforts to improve diabetes-related health care and education, as well as systems for delivering care (6) reduce health disparities in populations disproportionately burdened by diabetes, and (7) facilitate the incorporation of evidence-based research findings into health care practices.

Multiple strategies have been devised to address the NDEP objectives. These have been described in the NDEP Strategic Plan and include: (1) Promoting and implementing culturally and linguistically-appropriate diabetes awareness and education campaigns for a wide variety of audiences; (2) identifying, disseminating, and supporting the adoption of evidence-based, culturally and linguistically-appropriate tools and resources that support behavior change, improved quality of life, and better diabetes outcomes; (3) expanding NDEP reach and visibility through collaborations with public, private, and nontraditional partners, and use of national, state, and local media, traditional and social media, and other relevant channels.; and (4) conducting and supporting the evaluation of NDEP resources, promotions, and other activities to improve future NDEP initiatives.

The NDEP evaluation will document the extent to which the NDEP program has been implemented, and how successful it has been in meeting program objectives. The evaluation relies heavily on data gathered from existing national surveys such as National Health and Nutrition Examination Survey (NHANES), the National Health Interview Survey (NHIS), the Behavioral Risk Factor Surveillance System (BRFSS), among others for this information. This revision request is continued collection of additional primary data from NDEP target audiences on some key process and impact measures that are necessary to effectively evaluate the program. Continued approval and revision to revise and/or add questions is requested for a survey of audiences targeted by the National Diabetes Education Program including people at risk for diabetes, people with diabetes and their families, and the public.

Burden Statement: The burden for the collection of information, conducted every two to three years (2-3 years) is estimated to average 0.03 hours per response screening interview with ineligible persons and 0.25 hours per response for the eligible respondent interview.

Respondents/Affected Entities: Adult individuals.

Estimated Number of Respondents: 3759.

Frequency of Response: Once per respondent.

Estimated Total Annual Hour Burden: 575. There are no Capital Costs, Operating or Maintenance Costs to report.

Changes in the Estimates: There is no change in estimate from the last ICR renewal.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

FOR FURTHER INFORMATION CONTACT: To request more information on the proposed project or to obtain a copy of the data collection plans and instruments, contact Joanne Gallivan, M.S., R.D., Director, National Diabetes Education Program, NIDDK, NIH, Building 31, Room 9A06, 31 Center Drive, Bethesda, MD 20892, or call non-toll-free number (301) 494-6110 or email your request, including your address to: Joanne_Gallivan@nih.gov.

Comments Due Date: Comments regarding this information collection are best assured of having their full effect if received within 60 days of the date of this publication.

Dated: January 19, 2012.
Lisa Mascone,
Acting Executive Officer.

[FR Doc. 2012-1528 Filed 1-24-12; 8:45 am]

BILLING CODE 4140-01-P